DEPARTMENT OF TRANSPORTATION

National Highway Traffic Safety Administration

[Docket No. NHTSA-2006-25975; Notice 1]

American Honda Motor Co., Inc., Receipt of Petition for Decision of Inconsequential Noncompliance

American Honda Motor Co., Inc. (Honda) has determined that the certification labels for certain Pilot trucks that it produced in 2006 do not comply with S5.3 of 49 CFR 571.120, Federal Motor Vehicle Safety Standard (FMVSS) No. 120, “Tire selection and rims for motor vehicles other than passenger cars.” Honda has filed an appropriate report pursuant to 49 CFR part 573, “Defect and Noncompliance Reports.”

Pursuant to 49 U.S.C. 30118(d) and 30120(h), Honda has petitioned for an exemption from the notification and remedy requirements of 49 U.S.C. Chapter 301 on the basis that this noncompliance is inconsequential to motor vehicle safety.

This notice of receipt of Honda's petition is published under 49 U.S.C. 30118 and 30120 and does not represent any agency decision or other exercise of judgment concerning the merits of the petition.

Affected are a total of approximately 23,000 model year 2006 and 2007 Honda Pilot trucks produced between February 17, 2006 and August 10, 2006. S5.3.2 of FMVSS No. 120 requires that the vehicles shall show the size designation appropriate for the tires. The noncompliant vehicles have certification labels stating that the rim size is 6 inches, when in fact the rim size is 16 inches. Honda has corrected the problem that caused these errors so that they will not be repeated in future production.

Honda believes that the noncompliance is inconsequential to motor vehicle safety and that no corrective action is warranted. Honda presents the following basis for its petition:

First, most vehicle owners, dealers, and tire service technicians would refer to the vehicles' existing tires and/or the separate Tire Placard to determine the appropriate size for a replacement tire rather than to the Certification Label. Second, if the vehicle owner, dealer or tire service technician read the incorrect rim size on the Certification Label, it would be obvious that a full size vehicle could not use 6 inch wheels. Third, the tire size is listed correctly on the Certification Label. Fourth, the owner's manual contains the correct rim size information. Fifth, the correct rim size is cast into the wheel itself.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: November 3, 2006.

Authority (49 U.S.C. 30118, 30120: Delegations of authority at CFR 1.50 and 501.8).

Issued on: September 29, 2006.
Daniel C. Smith,
Associate Administrator for Enforcement.

[FR Doc. E6-16404 Filed 10-3-06; 8:45 am]

BILLING CODE 4910-59-P